DEPARTMENT OF HEALTH AND HUMAN SERVICES

National Institutes of Health

Eunice Kennedy Shriver National Institute of Child Health and Human Development; Notice of Meeting

Pursuant to section 10(d) of the Federal Advisory Committee Act, as amended, notice is hereby given of a meeting of the National Advisory Child Health and Human Development Council.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Advisory Child Health and Human Development Council.

Date: June 6-7, 2023.

Open Session: June 6, 2023, 12:00 p.m. to 1:00 p.m.

Agenda: Opening Remarks, Administrative Matters.

Place: National Institutes of Health 31 Center Drive, C-Wing, Conference Rooms F & G, Bethesda, MD 21157.

Closed Session: June 6, 2023, 1:15 p.m. to 5:00 p.m.

Agenda: To review and evaluate grant applications.

Place: National Institutes of Health, 31 Center Drive, C-Wing, Conference Rooms F & G, Bethesda, MD 21157.

Open Session: June 7, 2023, 9:00 a.m. to 12:45 p.m.

Agenda: NICHD Director's Report, and other business of Council.

Place: National Institutes of Health, 31 Center Drive, C-Wing, Conference Rooms F & G, Bethesda, MD 21157.

Contact Person: Ms. Lisa Neal, Committee Management Officer, Committee Management Branch, Eunice Kennedy Shriver National Institute of Child, Health and Human Development, NIH, 6701B Rockledge Drive, Room 2208, Bethesda, MD 20892, (301) 204-1830, lisa.neal@nih.gov.

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Individuals will be able to view the meeting via NIH Videocast. Select the following link for Videocast access instructions: http://www.nichd.nih.gov/about/advisory/nachhd/Pages/virtual-meeting.aspx.

Information is also available on the Institute's/Center's home page: https://www.nichd.nih.gov/about/advisory/council, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: April 13, 2023.
David W Freeman,
Program Analyst, Office of Federal Advisory Committee Policy.

[FR Doc. 2023-08244 Filed 4-18-23; 8:45 am]

BILLING CODE 4140-01-P